DEPARTMENT OF LABOR

Employment and Training Administration

[TA-W-71,694]

Arcelor Mittal, Formerly Known as Mittal Steel Walker Wire, a Subsidiary of Arcelor Mittal—Montreal, Including On-Site Leased Workers From Leasing Systems, Ferndale, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 29, 2010, applicable to workers of Arcelor Mittal, formerly known as Mittal Steel Walker Wire, a subsidiary of Arcelor Mittal—Montreal, including on-site leased workers from Leasing Systems, Inc., Ferndale, Michigan. The workers are engaged in activities related to the warehousing and distribution of processed steel coil, bars, rods and wire. The notice was published in the Federal Register on May 28, 2010 (75 FR 30070).

At the request of the State Agency, the Department reviewed the certification for workers of the subject firm.

The review shows that on August 9, 2007, a certification of eligibility to apply for adjustment assistance was issued for all workers of Mittal Steel Walker Wire, Inc., Ferndale, Michigan, separated from employment on or after July 23, 2006 through August 9, 2009. The notice was published in the Federal Register on January 26, 2009 (74 FR 4463).

In order to avoid an overlap in worker group coverage, the Department is amending the July 15, 2008 impact date established for TA-W-71,694, to read August 10, 2009.

The amended notice applicable to TA-W-71,696 is hereby issued as follows:

All workers of Arcelor Mittal, formerly known as Mittal Steel Walker Wire, a subsidiary of Arcelor Mittal—Montreal, including on-site leased workers from Leasing Systems, Inc., Ferndale, Michigan, who became totally or partially separated from employment on or after August 10, 2009, through April 29, 2012, and all workers in the group threatened with total or partial separation from employment on date of certification through two years from the date of certification, are eligible to apply for adjustment assistance under Chapter 2 of Title II of the Trade Act of 1974, as amended.

Signed in Washington, DC, this 24th day of February 2011.
Michael W. Jaffe,
Certifying Officer, Office of Trade Adjustment Assistance.

[FR Doc. 2011-5648 Filed 3-11-11; 8:45 am]

BILLING CODE 4510-FN-P